NUCLEAR REGULATORY COMMISSION

[Docket No. 040-00341]

Notice of Availability of Environmental Assessment and Finding of No Significant Impact for License Amendment to Source Materials License No. STC-133, Incorporating the Decommissioning Plan for the Defense Logistics Agency's Curtis Bay Depot Facility in Baltimore, MD

AGENCY: Nuclear Regulatory Commission.

ACTION: Issuance of environmental assessment and Finding of No Significant Impact for license amendment.

FOR FURTHER INFORMATION CONTACT: Steve Hammann, Health Physicist, Commercial and R&D Branch, Division of Nuclear Materials Safety, Region I, 475 Allendale Road, King of Prussia, Pennsylvania, 19406; telephone (610) 337-5399; fax number (610) 337-5269; or by e-mail: sth2@nrc.gov.

SUPPLEMENTARY INFORMATION:

I. Introduction

The U.S. Nuclear Regulatory Commission (NRC) is considering the issuance of a license amendment to Source Materials License No. STC-133. This license is held by Defense Logistics Agency (the Licensee), for its Curtis Bay Depot (the Facility), located at 710 Ordnance Road in Baltimore, Maryland. Issuance of the amendment would incorporate the Decommissioning Plan (DP) into the license to allow completion of decommissioning activities at the site and eventual unrestricted release of the Facility. The NRC has evaluated and approved the Licensee's DP. The findings of this evaluation are documented in a Safety Evaluation Report, which will be issued along with the amendment. The Licensee requested this action in a letter dated September 29, 2006. The Licensee's amendment request was noted in the Federal Register on February 1, 2007 (72 FR 4734). This Federal Register notice also provided an opportunity for a hearing on this licensing action. No hearing requests were received. The NRC has prepared an Environmental Assessment (EA) in support of this proposed action in accordance with the requirements of Title 10, Code of Federal Regulations (CFR), Part 51 (10 CFR Part 51). Based on the EA, the NRC has concluded that a Finding of No Significant Impact (FONSI) is appropriate with respect to the proposed action. The amendment will be issued to the Licensee following the publication of this FONSI and EA in the Federal Register.

II. Environmental Assessment

Identification of Proposed Action

The proposed action would approve the Licensee's September 29, 2006, license amendment request to incorporate the DP into the license, resulting in final decommissioning of the Facility and subsequent release of the Facility for unrestricted use. License No. STC-133 was issued on February 14, 1957, pursuant to 10 CFR Part 40, and has been amended periodically since that time. This license authorized the Licensee to possess natural uranium and thorium mixtures as ores, concentrates and solids for the purpose of storage, sampling, repackaging, and transfer for the activities of the National Defense Stockpile.

The Facility is situated on approximately 483 acres of grassy open areas and some lightly wooded areas and consists of various building pads, buildings and warehouses, some functional and others in a serious state of disrepair. A number of paved and dirt roads, along with railroad tracks, traverse the site. The Facility is located in an industrial area. Within the Facility, use of licensed materials was confined to buildings 1022, A-921, B-911, B-912, B-913, F-731, F-734, F-735, F-736, F-737, G-721, H-711, H-712, H-713, H-714, H-715, and the waste burial pit. Licensed activities ceased in May 2005.

Need for the Proposed Action

The proposed action is to approve the DP so that the Licensee may complete Facility decommissioning activities. Completion of the decommissioning activities will reduce residual radioactivity at the Facility. NRC regulations require licensees to begin timely decommissioning of their sites, or any separate buildings that contain residual radioactivity, upon cessation of licensed activities, in accordance with 10 CFR 40.42(d). The proposed licensing action will support such a goal. NRC is fulfilling its responsibilities under the Atomic Energy Act to make a decision on a proposed license amendment for decommissioning that ensures protection of the public health and safety.

Environmental Impacts of the Proposed Action

The historical review of licensed activities conducted at the Facility shows that such activities involved the storage, repackaging and transfer of licensed material in the form of thorium nitrate, monazite sand, and sodium sulfate. The licensed materials were always stored inside buildings, but were moved to other buildings which resulted in some licensed materials being spilled outdoors.

The NRC staff has reviewed the Licensee amendment request for the Facility and examined the impacts of this license amendment request. Potential impacts include water resource impact (e.g., water may be used for dust control), air quality impacts from dust emissions, temporary local traffic impacts resulting from transporting debris, human health impacts, noise impacts from equipment operation, scenic quality impacts, and waste management impacts.

Based on its review, the staff has determined that no surface water or ground water impacts are expected from the decommissioning activities. Additionally, the staff has determined that significant air quality, noise, land use, and off-site radiation exposure impacts are also not expected. No significant air quality impacts are anticipated because of the contamination controls that will be implemented by the Licensee during decommissioning activities. In addition, the environmental impacts associated with the decommissioning activities are bounded by impacts evaluated by NUREG-0586, “Final Generic Environmental Impact Statement on the Decommissioning of Nuclear Facilities,” (GEIS). Generic impacts for this type of decommissioning process were previously evaluated and described in the GEIS, which concludes that the environmental consequences are small. The risk to human health from the transportation of all radioactive material in the U.S. was evaluated in NUREG-0170, “Final Environmental Statement on the Transportation of Radioactive Materials by Air and Other Modes.” The principal radiological environmental impact during normal transportation is direct radiation exposure to nearby persons from radioactive material in the package. The average annual individual dose from all radioactive material transportation in the U.S. was calculated to be approximately 0.5 millirem, well below the 10 CFR 20.1301 limit of 100 millirem for a member of the public. Additionally, the Licensee estimates that approximately 200 cubic meters of low-contaminated demolition material waste and 930 cubic meters of low-contaminated soil, mostly from the excavation of the burial pit, will leave the site over the course of the decommissioning project. The waste will be transported from the Facility by rail car to its final destination. This proposed action will not significantly increase the probability or consequences of accidents, no changes are being made in the types of any effluents that may be released off site, and there is no significant increase in occupational or public radiation exposure. Thus, waste management and transportation impacts from the decommissioning will not be significant.

Occupational health was also considered in the “Final Environmental Impact Statement on the Transportation of Radioactive Material by Air and Other Modes.” Shipment of these materials would not affect the assessment of environmental impacts or the conclusions in the “Final Environmental Impact Statement on the Transportation of Radioactive Material by Air and Other Modes.”

The Staff also finds that the proposed license amendment will meet the radiological criteria for unrestricted release as specified in 10 CFR 20.1402. The Licensee demonstrated this through the development of derived concentration guideline limits (DCGLs) for its Facility. The Licensee conducted site-specific dose modeling using parameters specific to the Facility that adequately bounded the potential dose. This included dose modeling for two scenarios: building surfaces and soil. The building surface dose model was based on the warehouse worker scenario and the soil dose modeling was based on a resident farmer scenario.

The Licensee will maintain an appropriate level of radiation protection staff, procedures, and capabilities, and, through its Radiation Safety Officer, will implement an acceptable program to keep exposure to radioactive materials as low as reasonably achievable (ALARA). Work activities are not anticipated to result in radiation exposures to the public in excess of ten percent of the 10 CFR 20.1301 limits.

The NRC also evaluated whether cumulative environmental impacts could result from an incremental impact of the proposed action when added to other past, present, or reasonably foreseeable future actions in the area. The proposed NRC approval of the license amendment request, when combined with known effects on resource areas at the site, including further site remediation, are not anticipated to result in any cumulative impacts at the site.

Environmental Impacts of the Alternatives to the Proposed Action

The only alternative to the proposed action of decommissioning the Facility is the no-action alternative, under which the staff would leave things as they are by simply denying the amendment request. This no-action alternative is not feasible because it conflicts with 10 CFR 40.42(d) requiring that decommissioning of source material facilities be completed and approved by the NRC after licensed activities cease. The no action alternative would keep radioactive material on-site without disposal. Additionally, denying the amendment request would result in no change in current environmental impacts. The environmental impacts of the proposed action and the no-action alternative are therefore similar, and the no-action alternative is accordingly not further considered.

Conclusion

The NRC staff has concluded that the proposed action is consistent with NRC guidance and regulations. Because the proposed action will not significantly impact the quality of the human environment, the NRC staff concludes that the proposed action is the preferred alternative.

Agencies and Persons Consulted

NRC provided a draft of this Environmental Assessment to the Maryland Department of the Environment for review on April 26, 2007. On May 30, 2007, Maryland Department of the Environment responded by email. The State agreed with the conclusions of the Environmental Assessment and otherwise had no comments.

III. Finding of No Significant Impact

The NRC staff has prepared this EA in support of the proposed action. On the basis of this EA, the NRC finds that there are no significant environmental impacts from the proposed action, and that preparation of an environmental impact statement is not warranted. Accordingly, the NRC has determined that a Finding of No Significant Impact is appropriate.

IV. Further Information

Documents related to this action, including the application for license amendment and supporting documentation, are available electronically at the NRC's Electronic Reading Room at http://www.nrc.gov/reading-rm/adams.html. From this site, you can access the NRC's Agencywide Document Access and Management System (ADAMS), which provides text and image files of NRC's public documents. The documents related to this action are listed below, along with their ADAMS accession numbers.

1. NUREG-1757, “Consolidated NMSS Decommissioning Guidance;”

2. Title 10 Code of Federal Regulations, Part 20, Subpart E, “Radiological Criteria for License Termination;”

3. Title 10, Code of Federal Regulations, Part 51, “Environmental Protection Regulations for Domestic Licensing and Related Regulatory Functions;”

4. NUREG-1496, “Generic Environmental Impact Statement in Support of Rulemaking on Radiological Criteria for License Termination of NRC-Licensed Nuclear Facilities”

5. Submittal Letter dated February 3, 2006: ML060580094

6. Historical Site Assessment: ML060580564

7. Preliminary Site Specific Derived Concentration Guidelines: ML060580566

8. Radiological Scoping Survey: ML060580581

9. Environmental Assessment, Disposition of Thorium Nitrate: ML060580592

10. Request for Additional Information: ML061640494

11. Deficiency Response Letter dated July 5, 2006: ML061870570

12. Deficiency Response Letter dated August 8, 2006: ML062290404

13. Characterization Survey Report: ML062650300

14. Decommissioning/Remediation Plan: ML062760618

15. Receipt of Decommissioning Plan: ML062930051

16. Federal Register Notice of Consideration: ML070230235

If you do not have access to ADAMS, or if there are problems in accessing the documents located in ADAMS, contact the NRC Public Document Room (PDR) Reference staff at 1-800-397-4209, 301-415-4737, or by e-mail to pdr@nrc.gov. These documents may also be viewed electronically on the public computers located at the NRC's PDR, O 1 F21, One White Flint North, 11555 Rockville Pike, Rockville, MD 20852. The PDR reproduction contractor will copy documents for a fee.

Dated at 475 Allendale Road, King of Prussia, PA, this 15th day of June, 2007.
For the Nuclear Regulatory Commission.
James P. Dwyer,
Chief, Commercial and R&D Branch, Division of Nuclear Materials Safety, Region I.

[FR Doc. E7-12156 Filed 6-21-07; 8:45 am]

BILLING CODE 7590-01-P